DEPARTMENT OF COMMERCE

National Oceanic and Atmospheric Administration

Agency Information Collection Activities; Submission to the Office of Management and Budget (OMB) for Review and Approval; Comment Request; National Oceanic and Atmospheric Administration (NOAA) Fisheries Greater Atlantic Region Gear Identification Requirements

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing, information collections, which helps us assess the impact of our information collection requirements and minimize the public's reporting burden. The purpose of this notice is to allow for 60 days of public comment preceding submission of the collection to OMB.

DATES: To ensure consideration, comments regarding this proposed information collection must be received on or before June 3, 2024.

ADDRESSES: Interested persons are invited to submit written comments to Adrienne Thomas, NOAA PRA Officer, at NOAA.PRA@noaa.gov. Please reference OMB Control Number 0648-0351 in the subject line of your comments. Do not submit Confidential Business Information or otherwise sensitive or protected information.

FOR FURTHER INFORMATION CONTACT: Requests for additional information or specific questions related to collection activities should be directed to Laura Deighan, Fishery Management Specialist, 55 Great Republic Drive, Gloucester, MA 01930, 978-281-9184, laura.deighan@noaa.gov.

SUPPLEMENTARY INFORMATION:

I. Abstract

This request would extend an approved information collection regarding Greater Atlantic Region fishing gear marking requirements. There are no changes to the gear marking requirements in this collection.

Under the Magnuson-Stevens Fishery Conservation and Management Act (Magnuson-Stevens Act), the Secretary of Commerce (Secretary) is responsible for the conservation and management of marine fishery resources. The Secretary has delegated much of this responsibility to the National Oceanic and Atmospheric Administration (NOAA)/National Marine Fisheries Service (NMFS). The Magnuson-Stevens Act gives the Secretary and NOAA certain regulatory authorities to ensure the most beneficial uses of marine fishery resources. One of the regulatory steps taken to carry out the conservation and management objectives is to collect data from users of the resource.

Regulations at 50 CFR 648.84(a),(b), and (d), 648.125(b)(3), 648.144(b)(1), 648.264(a)(5), and 697.21(a) and (b) require Federal permit holders using certain types of fishing gear to mark the gear with information necessary to identify the vessel and gear (e.g., hull identification number, Federal fishing permit number). The regulations also specify gear marking requirements for visibility (e.g., buoys, radar reflectors). These gear marking requirements aid in fishery law enforcement, support safe navigation by increasing gear visibility, and help prevent gear conflicts by providing gear type information to other fisherman.

The number of end lines associated with each string of hooks, pots, or traps determine the quantity of gear in this collection. A single Federal permit holder may be responsible for marking several strings of a given gear type and may use multiple gear types that require marking.

II. Method of Collection

The regulations require Federal permit holders to affix the identifying information to the buoy or another part of the gear. No information is submitted to NMFS as a result of this collection.

III. Data

OMB Control Number: 0648-0351.

Form Number(s): None.

Type of Review: Regular submission (extension of a current information collection, without change).

Affected Public: Business or other for-profit organization.

Estimated Number of Respondents: 2,283.

Estimated Time per Response: 1 minute per string of gear.

Estimated Total Annual Burden Hours: 9,561.

Estimated Total Annual Cost to Public: $45,660 in recordkeeping/reporting costs.

Respondent's Obligation: Required to Obtain or Retain Benefits.

Legal Authority: Magnuson-Stevens Act. Regulations at 50 CFR 648.84(a), (b), and (d), 648.125(b) (3), 648.144(b) (1), 648.264(a) (5), and 697.21(a) and (b).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-06938 Filed 4-1-24; 8:45 am]

BILLING CODE 3510-22-P